NUCLEAR REGULATORY COMMISSION

[Docket No. 04008502; NRC-2009-0036]

Notice of Issuance of Materials License Renewal, Operating License SUA-1341, Uranium One USA, Inc., Willow Creek Uranium In Situ Recovery Project

AGENCY: Nuclear Regulatory Commission.

ACTION: Notice of issuance.

SUMMARY: The U.S. Nuclear Regulatory Commission (NRC) is providing notice of issuance of a license renewal for Materials License No. SUA-1341 to Uranium One USA, Inc. (Uranium One) for its Willow Creek Uranium In Situ Recovery (ISR) Project in Johnson and Campbell Counties, Wyoming.

ADDRESSES: Please refer to Docket ID NRC-2009-0036 when contacting the NRC about the availability of information regarding this document. You may access information related to this document, which the NRC possesses and are publicly-available, using any of the following methods:

• Federal Rulemaking Web site: Go to http://www.regulations.gov and search for Docket ID NRC-2009-0036. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. In addition, for the convenience of the reader, the ADAMS accession numbers are provided in a table in Section II of this notice entitled, Availability of Documents.

• NRC's PDR: You may examine and purchase copies of public documents at the NRC's PDR, Room O1-F21, One White Flint North, 11555 Rockville Pike, Rockville, Maryland 20852.

FOR FURTHER INFORMATION CONTACT: Ron C. Linton, Project Manager, Office of Federal and State Materials and Environmental Management Programs, U.S. Nuclear Regulatory Commission, Washington, DC 20555; telephone: 301-415-7777; email: ron.linton@nrc.gov.

I. Further Information

The license renewal authorizes Uranium One to continue operations of its project as proposed in its license renewal application, as amended, and to continue to possess uranium source and byproduct material at the Willow Creek ISR Project. Uranium One will be required to operate under the conditions listed in Materials License SUA-1341.

The licensee's request for renewal of its license was previously noticed in the Federal Register on February 9, 2009 (74 FR 6436), with a notice of an opportunity to request a hearing. The NRC received two requests for a hearing on the license application. After an initial hearing, the Atomic Safety and Licensing Board found that the applicants did not have standing to intervene. In accordance with part 51 of Title 10 of the Code of Federal Regulations (10 CFR), an environmental assessment of this action was completed and a finding of no significant impact was published in the Federal Register on July 15, 2011 (76 FR 41528); and on January 25, 2013, a supplemental environmental assessment and finding of no significant impact relating to this action was also published in the Federal Register (78 FR 5514).

The NRC has found that the renewal application for the source materials license complies with the standards and requirements of the Atomic Energy Act of 1954, as amended (the Act), and the NRC's rules and regulations as set forth in 10 CFR Chapter 1. As required by the Act and 10 CFR 40.32(a)-(e), the NRC staff has found that: (1) The renewal application is for a purpose authorized by the Act; (2) Uranium One is qualified by reason of training and experience to use source material for the purpose it requested; (3) Uranium One's proposed equipment and procedures for use at its Willow Creek Project are adequate to protect public health and minimize danger to life or property; (4) renewal and issuance of Materials License SUA-1341 to Uranium One will not be inimical to the common defense and security or to the health and safety of the public; and (5) after weighing the environmental, economic, technical and other benefits against environmental costs, that the action called for is the renewal of Materials License SUA-1341. The NRC prepared a safety evaluation report (SER) that documents the information that was reviewed and the NRC's conclusions.

II. Availability of Documents

In accordance with 10 CFR 2.390 of the NRC's “Agency Rules of Practice and Procedure,” the details with respect to this action, including the SER and accompanying documentation and license, are available electronically in the NRC Library at http://www.nrc.gov/reading-rm/adams.html. From this site, you can access ADAMS, which provides text and image files of the NRC's public documents. The ADAMS accession numbers for the documents related to this notice are:

1 License Renewal Application (LRA), May 30, 2008 | ML081850689
2 LRA Revision, October 31, 2008 | ML083110405
3 LRA Revision, July 17, 2009 | ML092110700
4 LRA Revision, November 19, 2010 | ML103280266
5 LRA Revision, March 7, 2012 | ML120820095
6 LRA Revision, July 10, 2012 | ML12206A436
7 Response to Confirmatory Action Letter, September 21, 2012 | ML12268A270
8 Final Environmental Assessment for the Renewal of the U.S. Nuclear Regulatory Commission License No. SUA-1341 For Uranium One USA, Inc., Irigaray and Christensen Ranch Projects (Willow Creek Project) Wyoming, July 2011 | ML103270681
9 Supplemental Environmental Assessment License Renewal Application Source Materials License SUA-1341, January 2013 | ML12289A442
10 NRC Safety Evaluation Report, March 2013 | ML13015A356
11 Source Materials License, Willow Creek Project, March 2013 | ML13015A366

If you do not have access to ADAMS, or if there are problems in accessing the documents located in ADAMS, contact the NRC PDR's Reference staff at 1-800-397-4209, 301-415-4737, or via email to pdr.resource@nrc.gov.

These documents may also be viewed electronically on the public computers located at the NRC's PDR, O 1 F21, One White Flint North, 11555 Rockville Pike, Rockville, MD 20852. The PDR reproduction contractor will copy documents for a fee.

Dated at Rockville, Maryland, this 7th day of March, 2013.
For the Nuclear Regulatory Commission.
Andrew Persinko,
Deputy Director, Decommissioning and Uranium Recovery Licensing Directorate, Division of Waste Management and Environmental Protection, Office of Federal and State Materials and Environmental Management Programs.

[FR Doc. 2013-06543 Filed 3-20-13; 8:45 am]

BILLING CODE 7590-01-P